NATIONAL SCIENCE FOUNDATION

Special Emphasis Panel in Undergraduate Education; Notice of Meeting

In accordance with the Federal Advisory Committee Act (Pub. L. 92-463, as amended), the National Science Foundation announces the following meeting.

Name: Special Emphasis Panel in Undergraduate Education (1214).

Date/Time: October 4-7, 2000; 8 a.m. to 5 p.m.

Place: Doubletree Hotel, 300 Army Navy Drive, Arlington, VA 22202.

Type of Meeting: Closed.

Contact Person: Drs. Harriet G. Taylor, Duncan E. McBride and Diane A. Jones, 4201 Wilson Boulevard, Arlington, VA 22230. Telephone: (703) 292-8667.

Purpose of Meeting: To provide advice and recommendations concerning proposals submitted to NSF for financial support.

Agenda: To review and evaluate CSEMS proposals as part of the selection process to determine finalists considered for FY2001 Computer Science, Engineering and Mathematics Scholarships.

Reason for Closing: The proposals being reviewed include information of a proprietary or confidential nature, including technical information; financial data, such as salaries; and personal information concerning individuals associated with the proposals. These matters are exempt under 5 U.S.C. 552b(c), (4) and (6) of the Government in the Sunshine Act.

Dated: September 7, 2000.
Karen J. York,
Committee Management Officer.

[FR Doc. 00-23490 Filed 9-12-00; 8:45 am]

BILLING CODE 7555-01-M